ENVIRONMENTAL PROTECTION AGENCY

[EPA-HQ-OPPT-2010-0880; FRL-8852-1]

Certain New Chemicals; Receipt and Status Information

AGENCY: Environmental Protection Agency (EPA).

ACTION: Notice.

SUMMARY: Under sections 5(d)(2) and 5(d)(3) of the Toxic Substances Control Act (TSCA), EPA is required to publish in the Federal Register a notice of receipt of a premanufacture notice (PMN) or an application for a test marketing exemption (TME), and to publish in the Federal Register periodic status reports on the new chemicals under review and the receipt of notices of commencement (NOC) to begin the manufacture of those chemicals. This document covers the period from September 20, 2010, to October 8, 2010, and provides the required notice and status report for the PMNs and TMEs, both pending or expired, and the NOCs to manufacture a new chemical that the Agency has received under TSCA section 5 during this time period.

DATES: Comments must be received on or before December 27, 2010.

ADDRESSES: Submit your comments, identified by docket identification (ID) number EPA-HQ-OPPT-2010-0880, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management 7407M, Office of Pollution Prevention and Toxics, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. As such, the Agency has not attempted to describe the specific entities that this action may apply to. Although others may be affected, this action applies directly to the submitter of the particular PMN or TME addressed in this document. If you have any questions regarding the applicability of this action to a particular entity, consult the person listed under FOR FURTHER INFORMATION CONTACT.

B. What should I consider as I prepare my comments for EPA?

1. Submitting CBI. Do not submit CBI to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information marked as CBI will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies chemical substances as either “existing” chemicals or “new” chemicals. Any substance that is not on EPA's TSCA Chemical Substances Inventory, commonly referred to as the the TSCA Inventory, is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by section 5 of TSCA to provide EPA with a premanufacture notice, or PMN, before initiating the activity. Section 5(h)(1) authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems/.

Under TSCA sections 5(d)(2) and 5(d)(3) of TSCA, EPA is required to publish in the Federal Register a notice of receipt of a PMN or an application for a TME and to publish in the Federal Register periodic status reports on the new chemicals under review and the receipt of the NOCs to begin the manufacture of those chemicals. This document, covers the period from September 20, 2010 to October 8, 2010, and provides the required notice and status report for the PMNs and TMEs, both pending or expired, and the NOCs to manufacture a new chemical that the Agency has received under TSCA section 5 during this time period.

III. Receipt and Status Reports

In Table I. of this Unit, EPA provides the following information (to the extent that such information is not claimed as CBI) on the PMNs received by EPA during this period: The EPA case number assigned to the PMN, the date the PMN was received by EPA, the projected end date for EPA's review of the PMN, the submitting manufacturer; the potential uses identified by the manufacturer/importer in the PMN, and the chemical identity.

Table I—Premanufacture Notices Received From: 9/21/10 to 10/08/10
Case No. | Received date | Projected review end date | Manufacturer/ importer | Use | Chemical
P-10-0571 | 09/21/10 | 12/19/10 | CBI | (G) Inhibitor for oil applications | (G) Quaternary ammonium compound.
P-10-0572 | 09/22/10 | 12/20/10 | CBI | (S) Coatings for leather; water borne industiral coatings like wood | (G) Hexamethylenediisocyanate homopolymer, alkoxy-terminated.
P-10-0573 | 09/23/10 | 12/21/10 | CBI | (G) Polyurethane (open, nondispersive) | (G) Thermoplastic polyurethane.
P-10-0574 | 09/23/10 | 12/21/10 | CBI | (G) Additive, open, non-dispersive use | (G) Polyisocyanate, reaction product with polyalkylene oxide.
P-10-0575 | 09/27/10 | 12/25/10 | Eastman Kodak Company | (S) Polymer used in manufacture of imaging media/products; for export | (G) Methacrylic acid polymer with isoalkylmethacrylamide, arylmethacrylate, and alkenylmethacrylate.
P-10-0576 | 09/27/10 | 12/25/10 | CBI | (S) A surfactant in hard surface cleaning detergent; laundry detergent | (G) Alkyloxypropyliminodipropionic acid, monosodium salt.
P-10-0577 | 09/27/10 | 12/25/10 | CBI | (G) Anti-friction coating | (G) Polyamideimide.
P-10-0578 | 09/27/10 | 12/25/10 | CBI | (G) Used in industrial coatings | (G) Alkylenealkanedioic acid, polymer with alkenylbenzene and alkenenitrile, ammonium salt, alkylhydroperoxide-initiated.
P-10-0579 | 09/27/10 | 12/25/10 | CBI | (S) An isocyanate for adhesives formulations | (G) Aromatic isocyanate, polymer with alkoxides and diol.
P-10-0580 | 09/27/10 | 12/25/10 | CBI | (G) Hole injection layer in a polylmeric photovoltaic module | (G) Hetromonocyclic[3,4-b]thiophene, homopolymer, 2-[1-[difluoro[(1,2,2-trifluoroethenyl)oxy]methyl]-1,2,2,2-tetrafluoroethoxy]-1,1,2,2-tetrafluoroethyoxy]-1,1,2,2-tetrafluoroethanesulfonic acid-tetrafluoroethylene polyer-doped.
P-10-0581 | 09/29/10 | 12/27/10 | CBI | (G) Anti-caking agent | (S) Iron, isomerized tartarate sodium complexes.
P-10-0582 | 09/28/10 | 12/26/10 | CBI | (G) Moisture curing polyurethane adhesive. The predicted volume for every application is same for all 6 chemical substances. The production is same for all 6 substances | (G) Isocyanate terminated urethane polymer.
P-10-0583 | 09/28/10 | 12/26/10 | CBI | (G) Moisture curing polyurethane adhesive. The predicted volume for every application is same for all 6 chemical substances. The production is same for all 6 substances | (G) Isocyanate terminated urethane polymer.
P-10-0584 | 09/28/10 | 12/26/10 | CBI | (G) Moisture curing polyurethane adhesive. The predicted volume for every application is same for all 6 chemical substances. The production is same for all 6 substances | (G) Isocyanate terminated urethane polymer.
P-10-0585 | 09/28/10 | 12/26/10 | CBI | (G) Moisture curing polyurethane adhesive. The predicted volume for every application is same for all 6 chemical substances. The production is same for all 6 substances | (G) Isocyanate terminated urethane polymer.
P-10-0586 | 09/28/10 | 12/26/10 | CBI | (G) Moisture curing polyurethane adhesive. The predicted volume for every application is same for all 6 chemical substances. The production is same for all 6 substances | (G) Isocyanate terminated urethane polymer.
P-10-0587 | 09/28/10 | 12/26/10 | CBI | (G) Moisture curing polyurethane adhesive. The predicted volume for every application is same for all 6 chemical substances. The production is same for all 6 substances | (G) Isocyanate terminated urethane polymer.
P-10-0588 | 09/29/10 | 12/27/10 | CBI | (S) Precursor to polyimide resin used in aircraft material; precursor to polyimide resin used in electronic and it material | (S) Benzenamine, 4,4'-[1,3-phenylenebis(1-methylethylidene)]bis-.
P-10-0589 | 09/30/10 | 12/28/10 | CBI | (G) Plasticizer for resin | (G) Dibasic acid ester.
P-10-0590 | 09/28/10 | 12/26/10 | CBI | (G) Component/additive in polymer resins | (G) Modified ketal ester.
P-10-0591 | 09/30/10 | 12/28/10 | CBI | (G) Adhesive system component | (G) Methylenebis[isocyanatobenzene], polymer with alkanedioic acid, alkylene glycols, alkoxylated alkanepolyol and substituted trialkoxysilane.
P-10-0592 | 09/28/10 | 12/26/10 | Cytec Industries Inc | (G) Coating resin | (G) Fatty acids, polymer with substituted carbopolycycle, substuted alkylamines, substituted alkyleneoxide and glycidyl alkanoate, substituted alkanoic acid (salts).
P-10-0593 | 09/29/10 | 12/27/10 | CBI | (G) Adhesive ingredient | (G) Modified starch.
P-11-0001 | 10/01/10 | 12/29/10 | CBI | (G) Crosslinking agent for coatings | (G) Aromatic polyisocyanate, aliphatic polyol blocked.
P-11-0002 | 10/01/10 | 12/29/10 | CBI | (G) Crosslinking agent for coatings | (G) Aromatic polyisocyanate, aliphatic polyol blocked.
P-11-0003 | 10/01/10 | 12/29/10 | CBI | (G) Crosslinking agent for coatings | (G) Aromatic polyisocyanate, aliphatic polyol blocked.
P-11-0004 | 10/01/10 | 12/29/10 | CBI | (G) Crosslinking agent for coatings | (G) Aromatic polyisocyanate, aliphatic polyol blocked.
P-11-0005 | 10/01/10 | 12/29/10 | CBI | (G) Crosslinking agent for coatings | (G) Aromatic polyisocyanate, aliphatic polyol blocked.
P-11-0006 | 10/01/10 | 12/29/10 | CBI | (G) Crosslinking agent for coatings | (G) Aromatic polyisocyanate, aliphatic polyol blocked.
P-11-0007 | 10/01/10 | 12/29/10 | Organic Dyestuffs Corporation | (S) Leather dye for distribution; other dyeing applications as needed | (S) 2,7-naphthalenedisulfonic acid, 4-amino-6-[[4-[[[4-[(2,4-diaminophenyl)azo]phenyl]amino]sulfonyl]phenyl]azo]-5-hydroxy-3-[(4-nitrophenyl)azo]-, dipotassium salt.
P-11-0008 | 10/01/10 | 12/29/10 | CBI | (G) Component in resins | (G) Modified ketal ester.
P-11-0009 | 10/04/10 | 01/01/11 | Interchem, Inc. | (S) Water soluble corrosion inhibitor | (G) Alkoxylated imidazoline.
P-11-0010 | 10/04/10 | 01/01/11 | CBI | (S) Resin for coatings, stains, primes and lacquers | (G) Fatty acid modified polyester aliphatic polyurethane dispersion.
P-11-0011 | 10/05/10 | 01/02/11 | Dic International (USA) LLC | (G) Adhesive | (G) Polyol blocked cycloaliphatic amine polymer.
P-11-0012 | 10/07/10 | 01/04/11 | CBI | (G) A polymer used in a concrete admixture which retains workability by retaining slump in concrete precast applications | (G) 2-propenoic acid, 2-methyl-, telomer with 2-propenoic acid and sodium phosphinate (1:1), ester with polyethylene glycol, peroxydisulfuric acid ([ho)s(o)2]2o2)sodium salt (1:2)-initiated.
P-11-0013 | 10/05/10 | 01/02/11 | Cytec Industries Inc | (G) Coatings resin | (G) Alkyl dioic acid, polymer with substituted alkanoate, alkyl diisocyanate, alkyldiol, and substituted alkanoic acid.
P-11-0014 | 10/05/10 | 01/02/11 | Goulston Technologies, Inc | (G) Component of lubricant for finish product for fiber and yarn | (G) Alkyl amine salt.
P-11-0015 | 10/06/10 | 01/03/11 | CBI | (S) Ingredient for fragrance production | (S) Cyclohexanepentanol, -methyl-.

In Table II. of this Unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—Test Marketing Exemption Notices Received From: 09/21/10 to 10/08/10
Case No. | Received date | Projected review end date | Manufacturer/importer | Use | Chemical
T-10-0009 | 09/28/10 | 11/11/10 | Cytec Industries Inc. | (G) Coating resin | (G) Fatty acids, polymer with substituted carbopolycycle, substituted akylamines, substituted akylneoxide and glycidyl alkenoate, substituted alkanoic acid (salts).
T-11-0001 | 10/05/10 | 11/18/10 | Cytec Industries Inc. | (G) Coating resin | (G) Alkyl dioic acid, polymer with substituted alkanoate, alkyl diisocyanate, alkyldiol, and substituted alkanoic acid.

In Table III. of this Unit, EPA provides the following information (to the extent that such information is not claimed as CBI) on the NOCs received by EPA during this period: The EPA case number assigned to the NOC, the date the NOC was received by EPA, the projected end date for EPA's review of the NOC, and the chemical identity.

Table III—Notices of Commencement From: 9/21/10 to 10/08/10
Case No. | Received date | Commencement notice review end date | Chemical
P-00-0129 | 10/01/10 | 09/07/10 | (S) L-aspartic acid, N,N'-1,2-ethanediylbis-, compound with 2-aminoethanol (1:3).
P-00-0130 | 10/01/10 | 09/07/10 | (S) L-aspartic acid, N,N'-1,2-ethanediylbis-, compound with 2-aminoethanol (1:4).
P-00-0131 | 10/01/10 | 09/07/10 | (S) L-aspartic acid, N,N'-1,2-ethanediylbis-, sodium salt.
P-00-0135 | 10/01/10 | 09/07/10 | (S) L-aspartic acid, N,N'-1,2-ethanediylbis-, tetrasodium salt.
P-00-0136 | 10/01/10 | 09/07/10 | (S) L-aspartic acid, N,N'-1,2-ethanediylbis-, potassium salt.
P-00-0139 | 10/01/10 | 09/07/10 | (S) L-aspartic acid, N,N'-1,2-ethanediylbis-, tripotassium salt.
P-00-0140 | 10/01/10 | 09/07/10 | (S) L-aspartic acid, N,N'-1,2-ethanediylbis-, tetrapotassium salt.
P-00-0144 | 10/01/10 | 09/07/10 | (S) L-aspartic acid, N,N'-1,2-ethanediylbis-, magnesium salt (1:2).
P-00-0146 | 10/01/10 | 09/07/10 | (S) L-aspartic acid, N,N'-1,2-ethanediylbis-, magnesium sodium salt (1:1:2).
P-00-0153 | 10/01/10 | 09/07/10 | (S) L-aspartic acid, N,N'-1,2-ethanediylbis- sodium salt, compound with 2-aminoethanol.
P-00-0154 | 10/01/10 | 09/07/10 | (S) L-aspartic acid, N,N'-1,2-ethanediylbis- monosodium salt, compound with 2-aminoethanol (1:3).
P-00-0155 | 10/01/10 | 09/07/10 | (S) L-aspartic acid, N,N'-1,2-ethanediylbis- disodium salt, compound with 2-aminoethanol (1:2).
P-00-0156 | 10/01/10 | 09/07/10 | (S) L-aspartic acid, N,N'-1,2-ethanediylbis- trisodium salt, compound with 2-aminoethanol (1:1).
P-07-0353 | 10/07/10 | 08/28/10 | (G) Alkyl acid fluoride.
P-08-0486 | 10/05/10 | 09/17/10 | (G) Polymer with .alpha.-hydro-.omega.-hydroxypoly[oxy(methyl-1,2-ethanediyl)], 3-hydroxy-2-(hydroxymethyl)-2-methylpropanoic acid and alkyldiisocyanate, ammonium salt.
P-09-0083 | 10/04/10 | 09/03/10 | (G) Cationic polyamide.
P-09-0084 | 09/22/10 | 09/02/10 | (G) Benzenesulfonic acid salt.
P-09-0146 | 10/01/10 | 09/28/10 | (S) Formaldehyde, polymers with acetone-phenol reaction products and phenol, sodium salts.
P-09-0288 | 09/22/10 | 08/21/10 | (G) Alkyl silsesquioxanes.
P-09-0430 | 10/04/10 | 09/14/10 | (G) Polymeric monoazo compound.
P-09-0431 | 10/04/10 | 09/14/10 | (G) Polymeric monoazo compound.
P-09-0432 | 10/04/10 | 09/14/10 | (G) Polymeric monoazo triphenylmethane.
P-09-0433 | 10/04/10 | 09/14/10 | (G) Polymeric triphenylmethane.
P-09-0558 | 09/27/10 | 09/10/10 | (G) Modified ketal.
P-09-0610 | 09/22/10 | 09/01/10 | (G) Alkylbenzene sulfonic acid.
P-10-0050 | 09/29/10 | 08/30/10 | (G) Amine salt.s of fatty acids.
P-10-0128 | 09/23/10 | 08/02/10 | (S) Siloxanes and silicones, di-me, 3-hydroxypropyl group-terminated, ethoxylated, polymers with 1,6-diisocyanato-2,2,4-trimethylhexane, 1,6-diisocyanato-2,4,4-trimethylhexane, polypropylene glycol ether with glycerol (3:1) and polypropylene glycol ether with pentaerythritol (4:1), polypropylene glycol mono-bu ether-blocked.
P-10-0133 | 09/29/10 | 09/21/10 | (G) Alkyl sulfide, manuf. of, by-products from, distn. lights.
P-10-0186 | 09/27/10 | 09/08/10 | (G) Alkyl phosphate salt.
P-10-0293 | 09/21/10 | 08/23/10 | (G) Methacrylate copolymer.
P-10-0306 | 09/30/10 | 08/31/10 | (G) Unsaturated polyester resin.
P-10-0325 | 10/07/10 | 09/20/10 | (G) Neodymium ziegler-natta catalyst.
P-10-0388 | 10/06/10 | 08/23/10 | (G) 2-propenoic acid, 2-methyl-, polymer with alkyl 2-propenoates, ethenyl acetate and methyl-2-methyl-2-propenoate.
P-10-0389 | 10/04/10 | 09/08/10 | (G) Amino acid, N-(2-aminoalkyl)-, salt. (1:1), polymers with cycloaliphatic diamine, alkyldiisocyanate, alpha-hydro-omega-hydroxy(alkyldiyl) and polyalkyl glycol mono alkyl ether blocked, alkyldiisocyanate-aromatic diisocyanate, polyalkyl glycol mono alkyl ether blocked.
P-10-0394 | 10/07/10 | 09/28/10 | (G) Aromatic carboxylic acid.
P-10-0395 | 10/07/10 | 10/01/10 | (G) Organic carboxylic acid.
P-10-0417 | 09/22/10 | 09/21/10 | (S) Amines, C36-alkylenedi-, polymers with 5,5'-[(1-methylethylidene)bis(4,1-phenyleneoxy)]bis[1,3-isobenzofurandione], maleated.
P-10-0430 | 10/06/10 | 09/28/10 | (G) Urethane acrylate.

If you are interested in information that is not included in these tables, you may contact the person listed under FOR FURTHER INFORMATION CONTACT to access additional non-CBI information that may be available.

List of Subjects

Environmental protection, Chemicals, Hazardous substances, Imports, Notice of commencement, Premanufacturer, Reporting and recordkeeping requirements, Test marketing exemptions.

Dated: November 17, 2010.
Darryl S. Ballaard,
Acting Director, Information Management Division, Office of Pollution Prevention and Toxics.

[FR Doc. 2010-29674 Filed 11-23-10; 8:45 am]

BILLING CODE 6560-50-P